DEPARTMENT OF HOUSING AND URBAN DEVELOPMENT

[Docket No. FR-5148-N-01]

Notice of Regulatory Waiver Requests Granted for the First Quarter of Calendar Year 2007

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2007 and ending on March 31, 2007.

FOR FURTHER INFORMATION CONTACT: For general information about this notice, contact Aaron Santa Anna, Assistant General Counsel for Regulations, Department of Housing and Urban Development, 451 Seventh Street, SW., Room 10276,Washington, DC 20410-0500, telephone (202) 708-3055 (this is not a toll-free number). Persons with hearing- or speech- impairments may access this number through TTY by calling the toll-free Federal Information Relay Service at (800) 877-8339.

For information concerning a particular waiver that was granted and for which public notice is provided in this document, contact the person whose name and address follow the description of the waiver granted in the accompanying list of waivers that have been granted in the first quarter of calendar year 2007.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2007, through March 31, 2007. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both 58.73 and 58.74 would appear sequentially in the listing under 58.73.

Waiver of regulations that involve the same initial regulatory citation are in time sequence beginning with the earliest-dated regulatory waiver.

Should HUD receive additional information about waivers granted during the period covered by this report (the first quarter of calendar year 2007) before the next report is published (the second quarter of calendar year 2007), HUD will include any additional waivers granted for the first quarter in the next report.

Accordingly, information about approved waiver requests pertaining to HUD regulations is provided in the Appendix that follows this notice.

Dated: June 27, 2007.
Robert M. Couch,
General Counsel.

Appendix—Listing of Waivers of Regulatory Requirements Granted by Offices of the Department of Housing and Urban Development January 1, 2007 through March 31, 2007

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: New Visions Center, Council Bluffs, Iowa. New Visions Center includes a transitional housing facility with 26 one-bedroom units, a 40 bed emergency shelter for men, a dining hall/community room, and administrative and support staff offices. HUD funding for the project includes HOME, Community Development Block Grant (CDBG), and Supportive Housing Program (SHP) funds.

Nature of Requirement: Section 58.22(a) prohibits recipients and any participant in the development process, including public or private nonprofit or for-profit entities or any of their contractors, from committing or expending HUD and non-HUD funds until HUD has approved the recipient's Request for Release of Funds (RROF) and related certification if the activity or project would have an adverse environmental impact or limit the choice of reasonable alternatives. After application for SHP funds and after application to the state for HOME funds, a partner in the development process, committed non-HUD funds to acquire the property prior to the city and state obtaining an approved RROF.

Granted By: Pamela Patenaude, Assistant Secretary for Community Planning and Development.

Date Granted: March 12, 2007.

Reason Waived: HUD granted the waiver for the following reasons: (1) Extensive efforts were undertaken by Council Bluffs Housing for the Homeless and the City of Council Bluffs to locate and identify this particular site for the project; (2) the project will further the purpose of the HOME and Supportive Housing Programs by providing transitional housing and services for the homeless; (3) based on the environmental assessment and the site visit conducted by HUD staff, HUD concludes that granting a wavier will not result in an adverse environmental impact, nor is any foreseen to occur; and (4) the regulatory violation occurred because of a good-faith mistake.

Contact: Danielle Schopp, Office of Environment and Energy, Office of Community Planning and Development, Department of Housing and Urban Development, 451 Seventh Street, SW., Room 7250, Washington, DC 20410-7000, telephone (202) 708-1201.

• Regulation: 24 CFR 92.2.

Project/Activity: The State of Mississippi requested a waiver of the definition of “homeownership” at 24 CFR 92.2 of the HOME regulations. The State of Mississippi requested this waiver to facilitate its efforts to assist the Town of Flora, which applied for a homeowner rehabilitation grant to assist property owners whose residences were constructed on school trust land, also known as Sixteenth Section land.

Nature of Requirement: The HOME regulations define “homeownership” as ownership in “fee simple title or a 99-year leasehold interest in a one- to four- unit dwelling or in a condominium unit, or equivalent form of ownership approved by HUD.” The Town of Flora applied to the State of Mississippi for HOME funds to rehabilitate owner-occupied units that are located on what is known as Sixteenth Section land and have 40-year land leases.

Granted By: Pamela H. Patenaude, Assistant Secretary for Community Planning and Development.

Date Granted: January 4, 2007.

Reasons Waived: Mississippi State law precludes these homeowners from obtaining 99-year leasehold interests in the land on which their units are located. Adherence to the HOME definition of homeownership would create a hardship by eliminating the possibility of receiving HOME assistance to rehabilitate their homes. The waiver was therefore granted.

Contact: Virginia Sardone, Office of Affordable Housing Programs, Office of Community Planning and Development, Department of Housing and Urban Development, 451 Seventh Street, SW., Room 7158, Washington, DC 20410-7000, telephone (202) 708-2470.

• Regulation: 24 CFR 92.214(a)(6).

Project/Activity: The State of South Dakota requested a waiver of 24 CFR 92.214(a)(6) to facilitate its efforts to ensure that a HOME project, which had to be vacated due to serious mold problem, will continue to provide affordable housing units for low-income individuals.

Nature of Requirement: The HOME regulations at 24 CFR 92.214(a)(6) prohibit participating jurisdictions from investing additional HOME funds in a project previously assisted with HOME funds, except during the first year after project completion. The State of South Dakota requested this waiver to facilitate its efforts to ensure that a HOME project, which had to be vacated due to serious mold problem, would continue to provide affordable housing units for low-income individuals.

Granted By: Pamela H. Patenaude, Assistant Secretary for Community Planning and Development.

Date Granted: January 4, 2007.

Reasons Waived: Without the investment of additional HOME funds to make this project habitable, the original HOME investment of $863,586 would be lost as would the opportunity to maintain the project as affordable housing.

Contact: Virginia Sardone, Office of Affordable Housing Programs, Office of Community Planning Development, Department of Housing and Urban Development, 451 Seventh Street, SW., Room 7158, Washington, DC 20410-7000, telephone (202) 708-2470.

• Regulation: 24 CFR 92.251(a)(1).

Project/Activity: The City of Oklahoma City requested a waiver to help facilitate its efforts to close a HOME-assisted homeowner rehabilitation project. The City of Oklahoma City asked for a waiver of the HOME property standards as stated in 24 CFR 92.251(a)(1) of the HOME regulations.

Nature of Requirement: The HOME regulations at 24 CFR 92.2519(a)(1) state that housing constructed or rehabilitated with HOME funds must meet all applicable codes, rehabilitation standards, ordinances, and zoning ordinances at the time of project completion. This requirement ensures that HOME-assisted units are decent, safe and sanitary.

Granted By: Pamela H. Patenaude, Assistant Secretary for Community Planning and Development.

Date Granted: January 4, 2007.

Reasons Waived: The City of Oklahoma City had been attempting to complete the rehabilitation of a low-income homeowner's unit for three years. The homeowner, who suffers from mental illness, would not permit the City to complete the rehabilitation of her home due to a dispute with the contractor. The City was diligent in its efforts to rectify the situation but the homeowner decided to sell the home, making it impossible for the City to further pursue a resolution. This waiver eliminated the need for the City to repay all of the HOME program funds expended for the partial rehabilitation of this property.

Contact: Virginia Sardone, Office of Affordable Housing Programs, Office of Community Planning and Development, Department of Housing and Urban Development, 451 Seventh Street, SW., Room 7158, Washington, DC 20410-7000, telephone (202) 708-2470.

• Regulation: 24 CFR 92.500(d)(1)(C).

Project/Activity: The City of New Orleans, LA requested a waiver of its Fiscal Year (FY) 2002 HOME Program expenditure requirement to facilitate its continued recovery from the devastation caused by Hurricanes Katrina and Rita. The City is located within a declared disaster area pursuant to Title IV of the Robert T. Stafford Disaster Relief and Emergency Assistance Act. The City requested this waiver in addition to the waivers granted by HUD on September 14, 2005 (Hurricane Katrina) and October 4, 2005 (Hurricane Rita) for the designated disaster areas.

Nature of Requirement: HUD's regulations at 24 CFR 92.500(d)(1)(C) require that a participating jurisdiction (PJ) expend its annual allocation of HOME funds within five years after HUD notifies the PJ that HUD has executed the jurisdiction's HOME Investment Partnership Agreement.

Granted By: Pamela H. Patenaude, Assistant Secretary for Community Planning and Development.

Date Granted: March 5, 2007.

Reasons Waived: This waiver was granted to facilitate the continued recovery of the City of New Orleans from the devastation caused by Hurricane Katrina and Hurricane Rita by waiving the FY 2002 HOME expenditure requirement. This waiver helped to ensure that needed HOME funds are not deobligated and that the City had sufficient flexibility and time to assess, redesign, and implement its housing programs and delivery systems.

Contact: Virginia Sardone, Office of Affordable Housing Programs, Office of Community Planning and Development, Department of Housing and Urban Development, 451 Seventh Street, SW., Room 7158, Washington, DC 20410-7000, telephone (202) 708-2470.

• Regulations/Statute: 24 CFR 92.500(d)(1)(C).

Project/Activity: The Gulfport Consortium requested a waiver to facilitate its recovery from the devastation caused by Hurricane Katrina. The Consortium is located within a declared disaster area pursuant to Title IV of the Robert T. Stafford Disaster Relief and Emergency Assistance Act.

Nature of Requirement: Section 92.500(d)(1)(C) requires that a participating jurisdiction expend its annual allocation of HOME funds within five years after HUD notifies the PJ that HUD has executed the jurisdiction's HOME Investment Partnership Agreement.

Granted By: Pamela H. Patenaude, Assistant Secretary for Community Planning and Development.

Date Granted: March 30, 2007.

Reasons Waived: This waiver will facilitate the recovery of the Gulfport Consortium from the devastation caused by Hurricane Katrina. The waiver will also ensure that needed HOME funds are not deobligated, providing the Consortium with flexibility to reassess previously approved housing projects and implement other housing activities to meet the immediate needs of the affected population.

Contact: Virginia Sardone, Office of Affordable Housing Programs, Department of Housing and Urban Development, 451 Seventh Street SW., Room 7158, Washington, DC 20410, telephone 202-708-2470.

II. Regulatory Waivers Granted by the Office of Housing—Federal Housing Administration (FHA)

For further information about the following regulatory waivers, please see the name of the contact person that immediately follows the description of the waiver granted.

• Regulation: 24 CFR 200.217(a)(5).

Project/Activity: Moore Medical Center, Moore, OK, FHA Project 117-13003.

Nature of Requirement: A party seeking approval of a transfer of physical assets must apply for previous participation clearance electronically.

Granted By: Brian D. Montgomery, Assistant Secretary for Housing-Federal Housing Commissioner.

Date Granted: January 8, 2007.

Reason Waived: For the benefit of HUD, it was necessary to secure previous participation clearance in paper form rather than electronically in order to meet bankruptcy court mandated auction, approval, and announcement deadlines. Moore Medical Center declared bankruptcy in October, 2006 and the bankruptcy court allowed bids on the hospital from approximately January 16, 2007 until February 25, 2007. The winning bidder was approved by the court on February 26, 2007 and closing on the sale took place on February 28, 2007. HUD had to be prepared for the purchaser (identity not known until February 26, 2007) to assume the owner's obligations under the HUD-insured mortgage and immediately provide a transfer of physical assets to the new owner, both of which required previous participation clearance pursuant to procedures contained in 24 CFR part 200, subpart H. The electronic previous participation certificate process is currently not designed to provide for immediate clearance of an applicant's filing. The waiver allowed paper previous participation certificates to be collected from each serious bidder as soon as they placed a bid and the granting of previous participation clearance within 48 hours of submission.

Contact: Roger E. Miller, Office of Insured Health Care Facilities, Office of Housing, Department of Housing and Urban Development, 451 Seventh Street, SW., Room 9224, Washington, DC 20410-8000, telephone (202) 402-2004.

• Regulation: 24 CFR 401.461.

Project/Activity: The following project listed below requested a waiver to the simple interest requirement on the second mortgage to allow compound interest at the applicable federal rate.

FHA No. | Project | State
01335127 | Park Drive Manor II Apartments | NY

Nature of Requirement: Section 401.461 of HUD's regulations requires that the second mortgages have an interest rate not more than the applicable federal rate. Section 401.461(b)(1) states that interest will accrue but not be compounded. The intent of simple interest instead of compound interest is to limit the size of the second mortgage accruals to increase the likelihood of long-term financial and physical integrity.

Contact: Frank L. Davis, General Deputy Assistant Secretary for Housing-Deputy Federal Housing Commissioner.

Date Granted: February 26, 2007.

Reason Waived: This regulation may be construed as a form of federal subsidy, thereby creating a loss of tax credit equity, which may adversely affect the ability to close the restructuring plan and could cause the loss or deterioration of these affordable housing projects. Therefore, compound interest was determined necessary for the owner to obtain low income housing tax credits under favorable terms and in order to maximize the savings to the federal government.

Granted By: John E. Hall, Office of Affordable Housing Preservation, Office of Housing, Department of Housing and Urban Development, 451 Seventh Street, SW., Room 6222, Washington, DC 20410-8000, telephone (202) 402-2342.

• Regulation: 24 CFR 401.461.

Project/Activity: The following projects listed below requested a waiver to the simple interest requirement on the second mortgage to allow compound interest at the applicable federal rate.

FHA No. | Project | State
12735339 | Montesano Harbor Annex Apartments | WA

Nature of Requirement: Section 401.461 of HUD's regulations requires that the second mortgages have an interest rate not more than the applicable federal rate. Section 401.461(b)(1) states that interest will accrue but not be compounded. The intent of simple interest instead of compound interest is to limit the size of the second mortgage accruals to increase the likelihood of long-term financial and physical integrity.

Granted By: Frank L. Davis, General Deputy Assistant Secretary for Housing-Deputy Federal Housing Commissioner.

Date Granted: March 12, 2007.

Reason Waived: This regulation may be construed as a form of federal subsidy, thereby creating a loss of tax credit equity, which may adversely affect the ability to close the restructuring plan and could cause the loss or deterioration of these affordable housing projects. Therefore, compound interest was determined necessary for the owner to obtain low income housing tax credits under favorable terms and in order to maximize the savings to the federal government.

Contact: John E. Hall, Office of Affordable Housing Preservation, Office of Housing, Department of Housing and Urban Development, 451 Seventh Street, SW., Room 6222, Washington, DC 20410-8000, telephone (202) 402-2342.

• Regulation: 24 CFR 401.461.

Project/Activity: The following projects listed below requested a waiver to the simple interest requirement on the second mortgage to allow compound interest at the applicable federal rate.

FHA No. | Project | State
11735033 | Columbia Square Apartments | OK
10535062
Jefferson Park Apartment
UT

Nature of Requirement: Section 401.461 of HUD's regulations requires that the second mortgages have an interest rate not more than the applicable federal rate. Section 401.461(b)(1) states that interest will accrue but not be compounded. The intent of simple interest instead of compound interest is to limit the size of the second mortgage accruals to increase the likelihood of long-term financial and physical integrity.

Granted By: Frank L. Davis, General Deputy Assistant Secretary for Housing-Deputy Federal Housing Commissioner.

Date Granted: March 30, 2007.

Reason Waived: This regulation may be construed as a form of federal subsidy, thereby creating a loss of tax credit equity, which may adversely affect the ability to close the restructuring plan and could cause the loss or deterioration of these affordable housing projects. Therefore, compound interest was determined necessary for the owner to obtain low income housing tax credits under favorable terms and in order to maximize the savings to the federal government.

Contact: John E. Hall, Office of Affordable Housing Preservation, Office of Housing, Department of Housing and Urban Development, 451 Seventh Street, SW., Room 6222, Washington, DC 20410-8000, telephone (202) 402-2342.

• Regulation: 24 CFR 891.100(d).

Project/Activity: James River Apartments, Richmond, VA, Project Number: 051-HD121/VA36-Q031-003.

Nature of Requirement: Section 891.100(d) prohibits amendment of the amount of the approved capital advance funds prior to initial closing.

Granted By: Brian D. Montgomery, Assistant Secretary for Housing-Federal Housing Commissioner.

Date Granted: January 3, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Kleeman Village, Clinton, IL, Project Number: 072-HD144/IL06-Q041-008.

Nature of Requirement: Section 891.100(d) prohibits amendment of the amount of the approved capital advance funds prior to initial closing.

Granted By: Brian D. Montgomery, Assistant Secretary for Housing-Federal Housing Commissioner.

Date Granted: January 5, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Sr. Louise DeMaillac Manor, Staten Island, NY, Project Number: 012-HD107/NY36-Q011-004.

Nature of Requirement: Section 891.100(d) prohibits amendment of the amountof the approved capital advance funds prior to initial closing.

Granted by: Brian D. Montgomery, Assistant Secretary for Housing-Federal Housing Commissioner.

Date Granted: January 5, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Woonsocket Neighborhood Development Corporation, North Smithfield, RI, Project Number: 016-EE046/RI43-S021-003.

Nature of Requirement: Section 891.100(d) prohibits amendment of the amount of the approved capital advance funds prior to initial closing.

Granted By: Brian D. Montgomery, Assistant Secretary for Housing-Federal Housing Commissioner.

Date Granted: January 5, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: UCP Rhode Island, Incorporation, West Warwick, RI, Project Number: 016-HD045/RI43-Q031-004.

Nature of Requirement: Section 891.100(d) prohibits amendment of the amount of the approved capital advance funds prior to initial closing.

Granted By: Brian D. Montgomery, Assistant Secretary for Housing-Federal Housing Commissioner.

Date Granted: January 5, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Avondale Haciendas, Avondale, AZ, Project Number: 123-EE095/AZ20-S041-001.

Nature of Requirement: Section 891.100(d) prohibits amendment of the amount of the approved capital advance funds prior to initial closing.

Granted By: Brian D. Montgomery, Assistant Secretary for Housing-Federal Housing Commissioner.

Date Granted: January 11, 2007.

Reason Waived: The project was economically designed and comparable in cost to similar projects in the area, and the sponsor/owner exhausted all efforts to obtain additional funding from other sources.

Contact: Willie Spearmon, Director, Office of Housing Assistance and Grant Administration, Office of Housing. Department of Housing and Urban Development, 451 Seventh Street, SW., Room 6134, Washington, DC 20410-8000, telephone (202) 708-3000.

• Regulation: 24 CFR 891.100(d).

Project/Activity: VOA Sandusky, Sandusky, OH, Project Number: 042-HD110/OH12-Q021-008.

Nature of Requirement: Section 891.100(d) prohibits amendment of the amount of the approved capital advance funds prior to initial closing.

Granted By: Brian D. Montgomery, Assistant Secretary for Housing-Federal Housing Commissioner.

Date Granted: January 11, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: The Commons Apartments, Sevierville, TN, Project Number: 087-EE057/TN37-S051-001.

Nature of Requirement: Section 891.100(d) prohibits amendment of the amount of the approved capital advance funds prior to initial closing.

Granted By: Brian D. Montgomery, Assistant Secretary for Housing-Federal Housing Commissioner.

Date Granted: January 25, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: TBD-811, Crossville, TN, Project Number: 087-HD049/TN37-Q061-001.

Nature of Requirement: Section 891.100(d) prohibits amendment of the amount of the approved capital advance funds prior to initial closing.

Granted By: Brian D. Montgomery, Assistant Secretary for Housing-Federal Housing Commissioner.

Date Granted: Febuary 1, 2007.

Reason Waived: The project was economically designed and comparable in cost to similar projects in the area, the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Park Place Apartments, Cleveland, TN, Project Number: 087-EE058/TN37-S051-002.

Nature of Requirement: Section 891.100(d) prohibits amendment of the amountof the approved capital advance funds prior to initial closing.

Granted By: Brian D. Montgomery, Assistant Secretary for Housing-Federal Housing Commissioner.

Date Granted: February 1, 2007.

Reason Waived: The project was economically designed and comparable in cost to similar projects in the area, the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Mace Apartments, Jamestown, TN, Project Number: 087-HD048/TN37-Q051-001.

Nature of Requirement: Section 891.100(d) prohibits amendment of the amount of the approved capital advance funds prior to initial closing.

Granted By: Brian D. Montgomery, Assistant Secretary for Housing-Federal Housing Commissioner.

Date Granted: February 5, 2007.

Reason Waived: The project was economically designed and comparable in cost to similar projects in the area, the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Renaissance Court, Wilsonville, OR, Project Number: 126-HD039/OR16-Q041-001

Nature of Requirement: Section 891.100(d) prohibits amendment of the amount of the approved capital advance funds prior to initial closing.

Granted By: Brian D. Montgomery, Assistant Secretary for Housing-Federal Housing Commissioner.

Date Granted: February 6, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: DGN Towers II, Incorporated, Pembroke Pines, FL, Project Number: 066-EE108/FL29-S051-006.

Nature of Requirement: Section 891.100(d) prohibits amendment of the amount of the approved capital advance funds prior to initial closing.

Granted By: Brian D. Montgomery, Assistant Secretary for Housing-Federal Housing Commissioner.

Date Granted: February 7, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Campbellsville Group Home, Campbellsville, KY, Project Number: 083-HD091/KY36-Q051-002.

Nature of Requirement: Section 891.100(d) prohibits amendment of the amount of the approved capital advance funds prior to initial closing.

Granted By: Brian D. Montgomery, Assistant Secretary for Housing-Federal Housing Commissioner.

Date Granted: February 7, 2007.

Reason Waived: The project was economically designed and the cost appears reasonable as there are no other four unit group homes in the area to compare costs, and the Sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: B'nai B'rith Apartments at Deerfield Beach III, Deerfield Beach, FL, Project Number: 066EE102/FL29-S041-005

Nature of Requirement: Section 891.100(d) prohibits amendment of the amount of the approved capital advance funds prior to initial closing.

Granted By: Brian D. Montgomery, Assistant Secretary for Housing-Federal Housing Commissioner.

Date Granted: February 7, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Bunker Hill Court Home, Independence, KY, Project Number: 083-HD093/KY36-Q051-004

Nature of Requirement: Section 891.100(d) prohibits amendment of the amountof the approved capital advance funds prior to initial closing.

Granted By: Brian D. Montgomery, Assistant Secretary for Housing-Federal Housing Commissioner.

Date Granted: February 16, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Bay Pointe Apartments, Louisa, KY, Project Number: 083-EE095/KY36-S051-001.

Nature of Requirement: Section 891.100(d) prohibits amendment of the amount of the approved capital advance funds prior to initial closing.

Granted By: Brian D. Montgomery, Assistant Secretary for Housing-Federal Housing Commissioner.

Date Granted: March 26, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Cody Road VOA Housing, Mobile, AL, Project Number: 062-HD060/AL09-Q051-004.

Nature of Requirement: Section 891.100(d) prohibits amendment of the amount of the approved capital advance funds prior to initial closing.

Granted By: Brian D. Montgomery, Assistant Secretary for Housing-Federal Housing Commissioner.

Date Granted: March 29, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Abilities at Eagles Nest, Lakeland, FL, Project Number: 067-HD096/FL29-Q041-003.

Nature of Requirement: Section 891.100(d) prohibits amendment of the amount of the approved capital advance funds prior to initial closing.

Granted By: Brian D. Montgomery, Assistant Secretary for Housing-Federal Housing Commissioner.

Date Granted: March 29, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Booth Manor II Apartments, Philadelphia, PA, Project Number: 034-EE142/PA26-S051-002.

Nature of Requirement: Section 891.100(d) prohibits amendment of the amount of the approved capital advance funds prior to initial closing.

Granted By: Brian D. Montgomery, Assistant Secretary for Housing-Federal Housing Commissioner.

Date Granted: March 30, 2007.

Reason Waived: The project was economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: NCR of Alief II, Houston, TX, Project Number: 0114-EE120/TX24-S041-008.

Nature of Requirement: Section 891.100(d) prohibits amendment of the amount of the approved capital advance funds prior to initial closing.

Granted By: Brian D. Montgomery, Assistant Secretary for Housing-Federal Housing Commissioner.

Date Granted: March 30, 2007.

Reason Waived: The project was economically designed and comparable in cost to similar projects in the area, the sponsor/owner exhausted all efforts to obtain additional funding from other sources and the additional cost is due to increased construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Woodside Village, Toledo, OH, Project Number: 042-HD112/OH12-Q031-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 5, 2007.

Reason Waived: The sponsor/owner needed additional time to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: SHDC No. 12, Kailua-Kona, HI, Project Number: 140-HD030/HI10-Q041-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 5, 2007.

Reason Waived: The sponsor/owner needed additional time to obtain a building permit and to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Tikigaqmiut Senior Housing, Point Hope, AK, Project Number: 176-EE029/AK06-S021-004; Anaiyak Senior Housing, Anaktuvuk Pass, AK, Project Number: 176-EE030/AK06-S021-005; Oglonikgum Uttuganaknich Senior Housing, Wainwright, AK, Project Number: 176-EE031/AK06-S021-006; Kaktovik Senior Housing, Kaktovik, AK, Project Number: 176-EE032/AK06-S021-007; Utuqqanaaqagvik Senior Housing, Nuiqsut, AK, Project Number: 176-EE033/AK06-S021-008.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 5, 2007.

Reason Waived: The sponsor/owner needed additional time to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Vista California Supportive Housing, Vista, CA, Project Number: 129-HD030/CA33-Q041-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 9, 2007.

Reason Waived: The sponsor/owner needed additional time to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Desert Willow, Ridgecrest, CA, Project Number: 122-HD162/CA16-Q041-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 9, 2007.

Reason Waived: The sponsor/owner experienced delays due to the lengthy plan check process by city and county officials.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Fox Creek II, Akron, OH, Project Number: 042-HD116/OH12-Q031-005 and Fox Creek I, Springfield Township, OH, Project Number: 042-HD117/OH12-Q031-006.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 9, 2007.

Reason Waived: Additional time is needed to issue the firm commitment and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: National Church Residence of Tucson, Tucson, AZ, Project Number: 123-EE085/AZ20-S021-003.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 9, 2007.

Reason Waived: The sponsor/owner needed additional time to achieve an intial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: AHEPA 302 Apartments, San Bernardino, CA, Project Number: 143-EE056/CA43-S041-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 9, 2007.

Reason Waived: The sponsor/owner needed additional time to implement design changes required by the local government as well as to achieve initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: NCR of Sterling Heights II, Detroit, MI, Project Number: 044-EE092/MI28-S041-002.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 11, 2007.

Reason Waived: The sponsor/owner needed additional time to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Gulfport Manor, Gulfport, MS, Project Number: 065-EE031/MS26-S001-002.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 11, 2007.

Reason Waived: The sponsor/owner needed additional time to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Soundview Senior Residence, Bronx, NY, Project Number: 012-EE318/NY36-S011-012.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 11, 2007.

Reason Waived: The sponsor/owner needed additional time for the new contractor to prepare and submit closing documents.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: TBD, Burlington, WI, Project Number: 075-HD088/WI39-Q041-007.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 12, 2007.

Reason Waived: The sponsor/owner needed additional time in order to obtain approval for the extension of a road, as well as water and sewer into the site.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Assaley Place, Charleston, WV, Project Number: 045-HD039/WV15-Q041-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 17, 2007.

Reason Waived: The sponsor/owner needed additional time to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Jennings Senior Housing, Santa Rosa, CA, Project Number: 121-EE178/CA39-S041-009.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: February 6, 2007.

Reason Waived: The sponsor/owner needed additional time to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Forest Hills Senior Apartments, Forest Hills, PA, Project Number: 033-EE122/PA28-S041-004.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: Februay 15, 2007.

Reason Waived: Additional time was needed for the firm commitment to be issued and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Northwest Senior Housing, Winsted, CT, Project Number: 017-EE088/CT26-S041-005.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 26, 2007.

Reason Waived: The sponsor/owner needed additional time to secure secondary financing and to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Clam Bayou Apartments, Inc., St. Petersburg, FL, Project Number: 067-HD094/FL29-Q041-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 28, 2007.

Reason Waived: The sponsor/owner needed additional time to resolve an easement issue and for the project to achieve initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Greater Las Vegas Supportive Housing, Las Vegas, NV, Project Number: 125-HD072/NV25-Q041-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 28, 2007.

Reason Waived: The sponsor/owner needed additional time to finalize the closing documents and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: National Church Residences, Sterling Heights, MI, Project Number: 044-EE092/MI28-S041-002.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 28, 2007.

Reason Waived: The sponsor/owner needed additional time to comply with numerous City of Sterling Heights engineering requirements, for the firm commitment to be issued, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Greenfield Commons, Fairfield, CT, Project Number: 017-EE092/CT26-S051-002.

Nature of Requirement: Section 891.205 requires Section 202 and Section 811 project owners to have tax exemption status under section 501(c)(3) or (c)(4) of the Internal Revenue Code.

Granted by: Brian D. Montgomery, Assistant Secretary for Housing-Federal Housing Commissioner.

Date Granted: January 3, 2007.

Reason Waived: The sponsor/owner had requested the section 501(c)(3) tax exemption but had not received it in time for the initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Immanuel Trinity Courtyard II, Papillion, NE, Project Number: 103-EE037/NE26-S061-001.

Nature of Requirement: Section 891.205 requires Section 202 and Section 811 project owners to be single-purpose corporations.

Granted By: Brian D. Montgomery, Assistant Secretary for Housing-Federal Housing Commissioner.

Date Granted: February 7, 2007.

Reason Waived: The units will be added to Immanuel Trinity Courtyard I, an existing project. The owner of Immanuel Trinity Courtyard I will own both projects resulting in cost savings.

Contact: Willie Spearmon, Director, Office of Housing Assistance and Grant Administration, Office of Housing, Department of Housing and Urban Development, 451 Seventh Street, SW., Room 6134, Washington, DC 20410-8000, telephone (202) 708-3000.

III. Regulatory Waivers Granted by the Office of Public and Indian Housing

For further information about the following regulatory waivers, please see the name of the contact person that immediately follows the description of the waiver granted.

• Regulation: 24 CFR 5.801.

Project/Activity: Union Township Housing Authority (NJ109), Union, NJ.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: February 14, 2007.

Reason Waived: The HA requested a waiver of the audited financial reporting requirements under the Section 8 Program for FYE March 31, 2006, for the following reasons: (1) The HA is under the single audit requirements of the Office of Management and Budget A-133 and does not conduct a separate audit; (2) the realignment of the HA's FYE from March 31 to December 31 eliminates the problem of the single audit as of FYE December 31, 2006, and (3) the independent auditor does not have a unique independent public accountant identifier number nor a procedure in place to insure timely submission to Financial Assessment Subsystem (FASS). The HA was granted a waiver because the circumstances that prevented the HA from submitting the audited financial data were beyond the HA's control. However, with the FYE change, the HA is required to submit its unaudited and audited financial data as of FYE December 31, 2006, and in accordance with HUD's Uniform Financial Standards Rule (UFSR) (24 CFR Part 5).

Contact: Myra E. Newbill, Acting Program Manager, Integrated Assessment Subsystem (NASS), Real Estate Assessment Center, Office of Public and Indian Housing, Department of Housing and Urban Development, 550 12th Street, SW., Suite 100, Washington, DC 20410-5000, telephone (202) 475-8988.

• Regulation: 24 CFR 902.20.

Project/Activity: City of East St. Louis Housing Authority (IL001), East St. Louis, IL.

Nature of Requirement: The objective of this regulation is to determine whether a housing authority (HA) is meeting the standard of decent, safe, sanitary, and in good repair. The Real Estate Assessment Center (REAC) provides for an independent physical inspection of a HA's property or properties that includes a statistically valid sample of the units.

Granted By: Orlando J. Cabrera, Assistant Secretary for Public and Indian Housing.

Date Granted: January 26, 2007.

Reason Waived: The HA requested a waiver of the physical inspections and Physical Assessment Subsystem (PASS) indicator score for fiscal year ending (FYE) March 31, 2006, because of major storm damage to HA's properties in July 2006. Five separate tornadoes caused significant damage to the community that resulted in loss of power, flooded streets, downed trees, etc. The waiver grants a waiver of and cancellation of the PASS inspections for FYE March 31, 2006. Physical inspections will resume for the FYE March 31, 2007, assessment cycle. The HA also received a waiver of the PASS Indicator score for that year since no physical inspections were conducted.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.20.

Project/Activity: City of Dumas Housing Authority (AR043), Dumas, AR.

Nature of Requirement: The objective of this regulation is to determine whether a housing authority (HA) is meeting the standard of decent, safe, sanitary, and in good repair. The Real Estate Assessment Center (REAC) provides for an independent physical inspection of a HA's property or properties that includes a statistically valid sample of the units.

Granted By: Orlando J. Cabrera, Assistant Secretary for Public and Indian Housing.

Date Granted: March 28, 2007.

Reason Waived: The HA requested a waiver of the physical inspections for fiscal year ending (FYE) December 31, 2006, because of tornado damage to its properties. The waiver grants a cancellation of the PASS inspections for FYE December 31, 2006. Physical inspections will resume for the FYE December 31, 2007, assessment cycle.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.20.

Project/Activity: District of Columbia Housing Authority (DC001), Washington, DC.

Nature of Requirement: The objective of this regulation is to determine whether a housing authority (HA) is meeting the standard of decent, safe, sanitary, and in good repair. The Real Estate Assessment Center (REAC) provides for an independent physical inspection of a HA's property or properties that includes a statistically valid sample of the units.

Granted By: Orlando J. Cabrera, Assistant Secretary for Public and Indian Housing.

Date Granted: March 28, 2007.

Reason Waived: The HA requested a waiver of the physical inspections under Physical Assessment Subsystem (PASS) of the Public Housing Assessment Subsystem (PHAS) for fiscal year ending (FYE) September 30, 2006. The waiver grants a cancellation of the PASS inspections for FYE September 30, 2006, because 31 of the HA's 41 developments are in the midst of a comprehensive rehabilitation project that will ensure 20 year viability. HUD confirmed that the contracts are in place and the rehabilitation efforts are underway. Physical inspections will resume for the FYE September 30, 2007, assessment cycle.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.33

Project/Activity: City of Anacortes Housing Authority (WA010), Anacortes, WA.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: March 28, 2007.

Reason Waived: The HA requested a waiver for the removal of the Late Presumptive Failure (LPF) score of zero under the audited Financial Assessment Subsystem (FASS) indicator of the Public Housing Assessment System (PHAS) for FYE March 31, 2006. The HA's audited financial submission was not received by the due date because the rejection notices from the Real Estate Assessment Center (REAC) and the Seattle Field Office were inadvertently forwarded to the agency's SPAM filter. Because the HA, was under the Small PHA Deregulation in 2006, and is not required to have a PHAS score for FYE March 31, 2006, the waiver granted the removal of the LPF score of zero, and allows the HA to resubmit a corrected audited financial submission. In accordance with 24 CFR 902.9, REAC will assess and score the performance of a PHA with less than 250 public housing units every other PHA fiscal year, unless the small PHA (a) elects to have its performance assessed on an annual basis, or (b) is designated as troubled. The City of Anacortes has an inventory of 111 low-rent public housing units and is therefore considered a small PHA. The PHA was designated a high performer in FY 2005, and because the PHAS is assessed every other year, it is not required to have a PHAS score in FY2006.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.33.

Project/Activity: Troy Housing Authority (NY012), Troy, NY.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: January 12, 2007.

Reason Waived: The HA requested a waiver for the removal of the Late Presumptive Failure (LPF) score of zero for the audited Financial Assessment Subsystem (FASS) indicator for FYE December 30, 2005, whose submission due date was September 30, 2006. The HA lost its in-charge auditor and also its Chief Financial Officer, who failed to complete a significant number of items identified by the auditors during their on-site field work. The waiver granted the removal of the LPF and resubmission of the audited financial data within 15 days of receipt of the waiver approval letter, and the issuance of a new Public Housing Assessment System (PHAS) score.

Contact: Myra E. Newbill, Acting Program Manager, NASS, Real Estate Assessment Center, Office of Public and Indian Housing, Department of Housing and Urban Development, 550 12th Street, SW., Suite 100 Washington, DC 20410-5000, telephone (202) 475-8988.

• Regulation: 24 CFR 902.33.

• Project/Activity: Meade County Housing and Redevelopment Commission (SD047), Sturgis, SD.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: February 14, 2007.

Reason Waived: The HA requested a waiver for the removal of the Late Presumptive Failure (LPF) score of zero under the audited Financial Assessment Subsystem (FASS) indicator. The audit was completed on time but the auditor was unable to complete the submission because of a death in her immediate family on the submission due date. The waiver granted the removal of the LPF score of zero and allows the HA to submit its audited financial data. Because the HA is designated as a Small PHA Deregulation for FY 2006, no Public Housing Assessment System (PHAS) score will be generated. In accordance with 24 CFR 902.9, REAC will assess and score the performance of a PHA with less than 250 public housing units every other PHA fiscal year, unless the small PHA (a) elects to have its performance assessed on an annual basis, or (b) is designated as troubled. The Meade County Housing and Redevelopment Commission is a small PHA, has an inventory of 80 low-rent public housing units and is therefore considered a small PHA. The PHA was designated a high performer in FY 2005, and because the PHAS is assessed every other year, it is not required to have a PHAS score in FY2006.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.33.

• Project/Activity: Benton Public Housing Authority (AR175), Benton, AR.

• Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: March 14, 2007.

Reason Waived: The HA requested a waiver for the removal of the Late Presumptive Failure (LPF) score of zero under the audited Financial Assessment Subsystem (FASS) indicator for FYE March 31, 2006. The HA's audit submission was not received by the due date because the last step of the three-step process was not performed that would have transmitted the data to the Real Estate Assessment Center (REAC). The waiver grants removal of the LPF score of zero, and allows the HA to submit its audited financial data. Because the HA is designated as a Small PHA Deregulation for FY 2006, no Public Housing Assessment System (PHAS) score will be generated.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.40.

Project/Activity: Housing Authority of the County of Cass, Illinois (IL102), Beardstown, IL.

Nature of Requirement: The objective of the Management Operations Indicator, under the Public Housing Assessment System (PHAS), is to measure certain key management operations and responsibilities of a housing authority (HA) for the purpose of assessing the HA's management operations capabilities. The regulation requires a HA to submit electronically a certification of its performance under each of the management operations sub-indicators within two months after the HA's fiscal year end (FYE).

Granted By: Orlando J. Cabrera, Assistant Secretary for Public and Indian Housing.

Date Granted: February 14, 2007.

Reason Waived: The HA requested a waiver of the Late Presumptive Failure (LPF) score of zero under Management Operations Indicator for FYE March 31, 2006 because the Executive Director (ED) passed away and no other HA staff was knowledgeable with the requirements under PHAS. A new ED was hired on June 15, 2006, but was unaware that the management operations certification had not been submitted as required. The waiver grants the HA an opportunity to submit the management operations certification, and the issuance of a new PHAS score.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.69(a)(2).

• Project/Activity: Marble Falls Housing Authority (TX263), Marble Falls, TX.

• Nature of Requirement: The regulation establishes that a PHA may petition for the removal of troubled designation.

Granted By: Orlando J. Cabrera, Assistant Secretary for Public and Indian Housing.

Date Granted: January 11, 2007.

Reason Waived: The HA requested a waiver that would change the HA's Public Housing Assessment System (PHAS) designation from Substandard Financial to Standard Performer for fiscal year end (FYE) September 30, 2005. In 2001, the HA made a management decision to construct a community center and to pursue additional opportunities to enhance affordable housing within the community. This action created a temporary liquidity issue for the HA that adversely affected its reserves. Because the HA has taken steps to eliminate this issue by transferring all non-HUD funded assets to a newly created Texas Housing Foundation, and made a commitment that it will no longer engage in community development initiatives, the HA's designation was changed from Substandard Financial to Standard Performer. No score adjustment was made.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 941.606(n)(l)(ii)(B).

Project/Activity: Housing Authority of Columbus, Georgia Ashley Station Phase II HOPE VI Project Number: GA06URD004I102.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: February 20, 2007.

Reason Waived: The Housing Authority of Columbus, Georgia (HACG) procured Integral Group, LLC (TIG) as the developer to revitalize the former Peabody Apartments site in Columbus, Georgia through a competitive Request for Proposal (RFP). IBG Construction Services, LLC, an affiliate of TIG, will serve as a general contractor for the development of Ashley Station Phase II. The basis for justifying the waiver was because IBG Construction Services, LLC could provide the most efficient means of accomplishing the construction. IBG Construction Services, LLC has knowledge of Low Income Housing Tax Credit and HOPE VI compliance issues, and experience with coordinating/managing infrastructure in support of on-site development. Its direct control of construction activities will ensure milestone completions and sensitivity to overall development requirements. In addition, HACG submitted an independent cost estimate by Diane R. Durand, a Construction/Cost Analyst with Architectural Associates. Architectural Associates compared the cost of this project with those of other projects and analyzed each line item, comparing the costs to projects in its data bank and against historical cost data. Architectural Associates cost estimate totaled $12,883,339 for construction, including the architectural design, contract administration and mortgagor's other fees. IBG Construction Services, LLC's total estimate for all improvements mentioned totaled $12,807,702. HUD also performed a fee analysis, confirming that all of the construction fees are either at or below HUD's Cost Control and Safe Harbor Standards issued on April 9, 2003. As IBG Construction Services, LLC cost was below that of the independent cost estimates, HUD's condition is satisfied.

Contact: Dominique Blom, Deputy Assistant Secretary for the Office of Public Housing Investments, Office of Public and Indian Housing, 451 Seventh Street, SW., Room 4130, Washington, DC 20410-5000, telephone (202) 401-8812.

• Regulation: 24 CFR 941.606(n)(l)(ii)(B).

Project/Activity: San Antonio Housing Authority, San Juan Apartments Mixed Finance Project Number: TX006-141.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: February 27, 2007.

Reason Waived: The San Antonio Housing Authority (SAHA) procured NRP Group, LLC as the developer for the San Juan Apartments site through a competitive Request for Proposal (RFP). NRP Contractors, LLC, an affiliate of the developer will serve as the co-general contractor while San Antonio Housing Facility Corporation (the Facility Corporation), an instrumentality of the housing authority will serve as the general contractor as a pass-through entity for the purpose of receiving certain sales tax benefits. The Facility Corporation will have no significant role in the construction of the development. SAHA submitted an independent cost estimate from Wiles Associates, who reviewed the plans and specifications for the San Juan Apartments. Wiles Associates provided a cost estimate, which reflects that NRP Contractors, LLC estimate of $63.37 per square foot is less than its estimate of $63.76 per square foot for this project. As NRP Contractors, LLC cost was below that of the independent cost estimates, HUD's condition is satisfied.

Contact: Dominique Blom, Deputy Assistant Secretary for the Office of Public Housing Investments, Office of Public and Indian Housing, 451 Seventh Street, SW., Room 4130, Washington, DC 20410-5000, telephone (202) 401-8812.

• Regulation: 24 CFR 982.505(d).

Project/Activity: King County Housing Authority (KCHA), King County, WA. The KCHA requested a waiver regarding exception payment standards so that it could provide a reasonable accommodation to a person with disabilities.

Nature of Requirement: Section 982.505(d) of HUD's regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: February 27, 2007.

Reason Waived: The assisted participant is a person with disabilities. The participant's physician stated that due to the participant's mental impairment and disabilities associated with traumatic head injury the participant should remain in the current unit that is close to the medical care facility. To provide a reasonable accommodation so that this participant would pay no more than 40 percent of the participant's adjusted income toward the family share, an exception payment standard that exceeded the basic range of 90 to 110 percent of the FMR was approved.

Contact: David Vargas, Director, Housing Voucher Programs, Office of Public Housing and Voucher Programs, Office of Public and Indian Housing, Department of Housing and Urban Development, 451 Seventh Street, SW., Room 4210, Washington, DC 20410-5000, telephone (202) 402-6192.

• Regulation: 24 CFR 982.505(d).

Project/Activity: King County Housing Authority (KCHA), King County, WA. The KCHA requested a waiver regarding exception payment standards so that it could provide a reasonable accommodation to a person with disabilities.

Nature of Requirement: Section 982.505(d) of HUD's regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: February 14, 2007.

Reason Waived: The assisted participant is a person with disabilities. The participant's physician stated that due to the participant's multiple neurological issues, the participant should remain in the current unit. To provide a reasonable accommodation so that the participant would pay no more than 40 percent of the participant's adjusted income toward the family share, an exception payment standard that exceeded the basic range of 90 to 110 percent of the FMR was approved.

Contact: David Vargas, Director, Housing Voucher Programs, Office of Public Housing and Voucher Programs, Office of Public and Indian Housing, Department of Housing and Urban Development, 451 Seventh Street, SW., Room 4210, Washington, DC 20410-5000, telephone (202) 402-6192.

• Regulation: 24 CFR 982.505(d).

Project/Activity: King County Housing Authority (KCHA), King County, WA. The KCHA requested a waiver regarding exception payment standards so that it could provide a reasonable accommodation to a person with disabilities.

Nature of Requirement: Section 982.505(d) off HUD's regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: February 2, 2007.

Reason Waived: The assisted participant is a person with disabilities. The participant owns a manufactured home, which has been modified to meet the participant's physical needs, and is accessible to support services in the area. To provide a reasonable accommodation so that this newly admitted participant would pay no more than 40 percent of the participant's adjusted income toward the family share, an exception payment standard that exceeded the basic range of 90 to 110 percent of the FMR was approved.

Contact: David Vargas, Director, Housing Voucher Programs, Office of Public Housing and Voucher Programs, Office of Public and Indian Housing, Department of Housing and Urban Development, 451 Seventh Street, SW., Room 4210, Washington, DC 20410-5000, telephone (202) 402-6192.

• Regulation: 24 CFR 982.505(d).

Project/Activity: King County Housing Authority (KCHA), King County, WA. The KCHA requested a waiver regarding exception payment standards so that it could provide a reasonable accommodation to a person with disabilities.

Nature of Requirement: Section 982.505(d) of HUD's regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: January 23, 2007.

Reason Waived: The assisted participant is an elderly person with disabilities. The participant owns a manufactured home, which has been modified to meet the participant's physical needs, and is accessible to transportation and services in the area. To provide a reasonable accommodation so that this newly admitted participant would pay no more than 40 percent of the participant's adjusted income toward the family share, an exception payment standard that exceeded the basic range of 90 to 110 percent of the FMR was approved

Contact: David Vargas, Director, Housing Voucher Programs, Office of Public Housing and Voucher Programs, Office of Public and Indian Housing, Department of Housing and Urban Development, 451 Seventh Street, SW., Room 4210, Washington, DC. 20410-5000, telephone (202) 402-6192.

• Regulation: 24 CFR 982.505(d).

Project/Activity: Housing Authority of Snohomish County (HASC), Snohomish County, WA. The HASC requested a waiver regarding exception payment standards so that it could provide a reasonable accommodation to a person with disabilities.

Nature of Requirement: Section 982.505(d) of HUD's regulations states that a public housing agency may only approve a higher payment standard for a family as a reasonable accommodation if the higher payment standard is within the basic range of 90 to 110 percent of the fair market rent (FMR) for the unit size.

Granted By: Orlando J. Cabrera, Deputy Assistant Secretary for Public and Indian Housing.

Date Granted: March 22, 2007.

Reason Waived: The assisted participant, who is a person with disabilities, owns a manufactured home and the participant's physician and therapist documented that it would be a hardship for the participant to move. To provide a reasonable accommodation so that the newly admitted participant would pay no more than 40 percent of the participant's adjusted income toward the family share, an exception payment standard that exceeded the basic range of 90 to 110 percent of the FMR was approved

Contact: Dr. Alfred Jurison, Director, Housing Voucher Management and Operations Division, Office of Public Housing and Voucher Programs, Office of Public and Indian Housing, Department of Housing and Urban Development, 451 Seventh Street, SW., Room 4210, Washington, DC 20410-8000, telephone (202) 708-0477.

• Regulation: 24 CFR 982.505(d).

Project/Activity: Sarasota Office of Housing and Community Development (SOHCD), Sarasota, FL. The SOHCD requested a waiver regarding exception payment standards so that it could provide a reasonable accommodation to a person with disabilities.

Nature of Requirement: Section 982.505(d) of HUD's regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: January 23, 2007.

Reason Waived: The assisted participant is a person with disabilities. The participant required a detached home that was not close to a highway or any chemical exposures as documented by the participant's medical health care provider. A three-bedroom unit was the only unit that was available after an extensive housing search. To provide a reasonable accommodation so that this newly admitted participant would pay no more than 40 percent of the participant's adjusted income toward the family share, an exception payment standard that exceeded the basic range of 90 to 110 percent of the FMR was approved.

Contact: David Vargas, Director, Housing Voucher Programs, Office of Public Housing and Voucher Programs, Office of Public and Indian Housing, Department of Housing and Urban Development, 451 Seventh Street, SW., Room 4210, Washington, DC 20410-5000, telephone (202) 402-6192.

• Regulation: 24 CFR 983.51(b)(1).

Project/Activity: Housing Authority of the City of Lake Charles (HACLC), Lake Charles, Louisiana. The HACLC requested a waiver of competition under the project-based voucher PBV regulations so that it could use available money under its approved Notice of Intent and Fungibility Plan to lower its debt service on a PHA-owned 20 unit complex in Raleigh, Smith County.

Nature of Requirement: Section 983.51(b)(1) of HUD's regulations states that the PHA must select PBV proposals in accordance with the selection procedures in the PHA administrative plan and may not limit proposals to a single site or practically preclude owner submission of proposals for PBV housing in different sites.

Granted By: Orlando J. Cabrera, Assistant Secretary for Public and Indian Housing.

Date Granted: March 1, 2007.

Reason Waived: The HACLC intends to use available funds in accordance with the Department's implementation guidance for 901 Emergency Supplemental Appropriations dated July 28, 2006, to acquire existing units that will comply with housing quality standards and be available to previously assisted families that were displaced by Hurricane Katrina.

Contact: David Vargas, Director, Housing Voucher Programs, Office of Public Housing and Voucher Programs, Office of Public and Indian Housing, Department of Housing and Urban Development, 451 Seventh Street, SW., Room 4210, Washington, DC 20410-5000, telephone, (202) 402-6192.

• Regulation: 24 CFR 983.51(b)(1).

Project/Activity: Mississippi Regional Housing Authority V (MRHAV) requested a waiver of competition under the project-based voucher PBV regulations so that it could use available money under its approved Notice of Intent and Fungibility Plan to lower its debt service on a PHA-owned 20 unit complex in Raleigh, Smith County.

Nature of Requirement: Section 983.51(b)(1) of HUD's regulations states that the PHA must select PBV proposals in accordance with the selection procedures in the PHA administrative plan and may not limit proposals to a single site or practically preclude owner submission of proposals for PBV housing in different sites.

Granted By: Orlando J. Cabrera, Assistant Secretary for Public and Indian Housing.

Date Granted: February 23, 2007.

Reason Waived: The MRHAV intends to use available funds in accordance with the Department's implementation guidance for 901 Emergency Supplemental Appropriations dated July 28, 2006, to expeditiously serve previously assisted families displaced by Hurricane Katrina.

Contact: David Vargas, Director, Housing Voucher Programs, Office of Public Housing and Voucher Programs, Office of Public and Indian Housing, Department of Housing and Urban Development, 451 Seventh Street, SW., Room 4210, Washington, DC 20410-5000, telephone, (202) 402-6192.

• Regulation: 24 CFR 990.185(a).

Project/Activity: Utica Municipal Housing Authority (UMHA), Buffalo, New York. The UMHA is contracting to Energy Performance through a term longer than the stated 12-year maximum.

Nature of Requirement: On August 8, 2005, President Bush signed into law the Energy Policy Act of 2005. Pub. L. 109-58, Subtitle D—Public Housing, Section 151, (2)(B), which states: “Term of contract—The total term of a contract described in clause (i) shall not exceed 20 years to allow longer payback periods for retrofits, including windows, heating system replacements, wall insulation, site-based generation, advanced energy savings technologies, including renewable energy generation, and other such retrofits”. However, HUD's current regulation 24 CFR 990.185(a) states that the contract period shall not exceed 12 years.

Granted By: Orlando J. Cabrera, Assistant Secretary for Public and Indian Housing.

Date Granted: February 12, 2007.

Reason Waived: UMHA is undertaking a self-developed energy project, acting as an Energy Services Company, and has hired a qualified third party consultant to provide energy management expertise. UMHA anticipates that recommendations arising from its energy audit will incorporate a selection of energy conservation measures whose life cycle expectations and cost will exceed the 12-year regulatory limit regulatory limitation in 24 CFR 990.185(a). UMHA anticipates that the selection of energy conservation of retrofits will be capable of generating adequate savings to amortize the resulting debt within the approved period of the energy performance contract. Based upon the anticipated savings and benefits to UMHA and its residents, this waiver grants the UMHA the 12-year payback period to allow up to a 20-year payback period, contingent on HUD's provisions to UMHA. HUD's provisions include additional information and technical activity requirements unique to the characteristics of the project and the PHA. The purpose of the provisions is to ensure success, minimize risk to projected savings (used to amortize the loan) and to HUD. The PHA must comply with all of HUD's provisions for the waiver to be effective.

Contact: Nicole Faison, Director, Office of Public Housing Programs, Office of Public and Indian Housing, Department of Housing and Urban Development, 451 Seventh Street, SW., Room 4238, Washington, DC 20410-5000, telephone (202) 708-0744.

• Regulation: 24 CFR 990.185(a).

Project/Activity: Watertown Housing Authority (WHA), Watertown, New York. The WHA is contracting to Energy Performance through a term longer than the regulatory 12-year maximum.

Nature of Requirement: This regulation describes permissible funding options for accomplishing cost-effective energy audits and energy conservation measures (ECMs). It also states that if a PHA undertakes ECMs that are financed by an entity other than HUD, the PHA may qualify for incentives available in 24 CFR 990.185. The Department encourages PHAs, through its support of the Energy Policy Act of 2005, to employ innovative approaches to achieve programmatic efficiency and reduce utility costs particularly as PHAs transition to asset management.

Granted By: Orlando J. Cabrera, Assistant Secretary for Public and Indian Housing.

Date Granted: March 1, 2007.

Reason Waived: The WHA is undertaking a self-developed energy project, which the WHA can counteract a portion of the funding shortfalls historically appropriated to the housing industry by Congress to capture eight additional years of energy savings. This capture of non-Secretary funding would allow the implementation of capital improvements that have longer payback periods such as window replacement, heating plants upgrades, and increased building envelope insulation. The WHA would be able to consider including into their program site based generation and other advanced renewable and sustainable energy conservation retrofits. Based upon the anticipated savings and benefits to WHA and its residents, this waiver grants the WHA an increase from the 12-year payback period to allow up to a 20-year payback period, contingent on HUD's provisions to WHA. HUD's provisions include additional information and technical activity requirements unique to the characteristics of the project and the PHA. The purpose of the provisions is to ensure success, minimize risk to projected savings (used to amortize the loan) and to HUD. The PHA must comply with all of HUD's provisions for the waiver to be effective.

Contact: Nicole Faison, Director, Office of Public Housing Programs, Office of Public and Indian Housing, Department of Housing and Urban Development, 451 Seventh Street, SW., Room 4238, Washington, DC 20410-5000, telephone (202) 708-0744.

• Regulation: 24 CFR 990.185(a).

Project/Activity: Housing Authority of Portland (HAP), Portland, Oregon. The HAP is contracting to Energy Performance through a term longer that the regulatory 12-year maximum.

Nature of Requirement: This regulation describes permissible funding options for accomplishing cost-effective energy audits and energy conservation measures (ECMs). It also states that if a PHA undertakes ECMs that are financed by an entity other than HUD, the PHA may qualify for incentives available in 24 CFR 990.185. The Department encourages PHAs, through its support of the Energy Policy Act of 2005, to employ innovative approaches to achieve programmatic efficiency and reduce utility costs as PHAs transition to asset management.

Granted By: Orlando J. Cabrera, Assistant Secretary for Public and Indian Housing.

Date Granted: March 1, 2007.

Reason Waived: The HAP can implement capital improvements that have longer payback periods such as window replacement, heating plants upgrades, and increased building envelope insulation. HAP will also investigate and consider including other advanced renewable and sustainable energy conservation retrofits in its program. This request will permit a benefit from energy performance contracting at HAP's public housing developments through a term longer than the stated 12-year maximum. This is in direct correlation to the National Energy Policy Act, approved by Congress and signed by President Bush on August 8, 2005 and PIH Notice 2006-06. HAP anticipates that the selection of energy conservation of retrofits will be capable of generating adequate savings to amortize the resulting debt within the approved period of the energy performance contract. Based upon the anticipated savings and benefits to HAP and its residents, this waiver grants the HAP the 12-year payback period to allow up to a 20-year payback period, contingent on HUD's provisions to HAP. HUD's provisions include additional information and technical activity requirements unique to the characteristics of the project and the PHA. The purpose of the provisions is to ensure success, minimize risk to projected savings (used to amortize the loan) and to HUD. The PHA must comply with all of HUD's provisions for the waiver to be effective.

Contact: Nicole Faison, Director, Office of Public Housing Programs, Office of Public and Indian Housing, Department of Housing and Urban Development, 451 Seventh Street, SW., Room 4238, Washington, DC 20410-5000, telephone (202) 708-0744.

• Regulation: 24 CFR 990.185(a).

Project/Activity: Schuylkill County Housing Authority (SCHA), Schuylkill Haven, Pennsylvania is contracting to energy performance through a term longer than the regulatory 12-year maximum.

Nature of Requirement: On August 8, 2005, President Bush signed into law the Energy Policy Act of 2005. Pub. L. 109-58, Subtitle D—Public Housing, Section 151, (2)(B), which states: “Term of contract—The total term of a contract described in clause (i) shall not exceed 20 years to allow longer payback periods for retrofits, including windows, heating system replacements, wall insulation, site-based generation, advanced energy savings technologies, including renewable energy generation, and other such retrofits”. However, HUD's current regulation 24 CFR 990.185(a) states that the contract period shall not exceed 12 years.

Granted By: Orlando J. Cabrera, Assistant Secretary for Public and Indian Housing.

Date Granted: March 1, 2007.

Reason Waived: The SCHA issued a Request for Proposal (RFP) for an Energy Performance Contracting program. The SCHA selected an Energy Services Company (ESCO) to perform the energy audit and executed a contract. Based on the SCHA's knowledge of its utility related needs and equipment, it anticipated that the recommendations arising from the audit would incorporate a selection of energy conservation improvements whose life cycle expectation and cost would exceed the 12-year regulatory limitation reflected in 24 CFR 990.185. The SCHA anticipates that the selection of retrofits is capable of generating adequate savings to amortize the resulting debt within the approved period of the Energy Performance Contract.

Contact: Nicole Faison, Director, Office of Public Housing Programs, Office of Public and Indian Housing, Department of Housing and Urban Development, 451 Seventh Street, SW., Room 4238, Washington, DC 20410-5000, telephone (202) 708-0744.

• Regulations: 24 CFR part 5 and 24 CFR Chapter IX.

Project/Activity: The PHAs identified in Table 1, are all located within a presidentially declared disaster area as a result of damages caused by Hurricanes Katrina, Rita or Wilma, and each PHA notified HUD of the need for one or more regulatory waivers made available to PHAs in Hurricanes Katrina, Rita and Wilma disaster areas by three Federal Register notices. The first notice is Regulatory and Administrative Waivers Granted for Public and Indian Housing Programs to Assist with Recovery and Relief in Hurricane Katrina Disaster Areas, signed September 27, 2005, and published in the Federal Register on October 3, 2005 (70 FR 57716), the second notice is Regulatory and Administrative Waivers Granted for Public and Indian Housing Programs to Assist with Recovery and Relief in Hurricane Rita Disaster Areas; and Additional Administrative Relief for Hurricane Katrina, signed October 25, 2005, and published in the Federal Register on November 1, 2005 (70 FR 66222), and the third notice is Regulatory and Administrative Waivers Granted for Public and Indian Housing Programs To Assist With Recovery and Relief in Hurricane Wilma Disaster Areas, signed on March 7, 2006, and published in the Federal Register on March 13, 2006 (71 FR 12988):

Nature of Requirements: The three Federal Register notices provided for waiver of the following regulations, in 24 CFR part 5 and 24 CFR Chapter IX for those PHAs in the disaster areas that notified HUD through a special waiver request process designed to expedite both the submission of regulatory requests to HUD and HUD's response to the request.

1. 24 CFR 5.216(g)(5) (Disclosure and Verification of Social Security and Employer Identification Numbers);

2. 24 CFR 5.512(c) (Verification of Eligible Immigration Status; Secondary

Verification);

3. 24 CFR 5.801(c) and 5.801(d) (Uniform Financial Reporting Standards (UFRS));

4. 24 CFR 902 (Public Housing Assessment System (PHAS));

5. 24 CFR 903.5 (Annual Plan Submission Deadline);

6. 24 CFR 905.10(i) (Capital Fund Formula; Limitation of Replacement Housing Funds to New Development);

7. 24 CFR 941.306 (Maximum Project);

8. 24 CFR 965.302 (Requirement for Energy Audits);

9. 24 CFR 982.54 (Administrative Plan);

10. 24 CFR 982.206 (Waiting List; Opening and Public Notice);

11. 24 CFR 982.401(d) (Housing Quality Standards; Space Requirements);

12. 24 CFR 982.503(b) (Waiver of payment standard; Establishing Payment Standard; Amounts);

13. 24 CFR 984.303 (Contract of Participation; Family Self-Sufficiency (FSS) Program; Extension of Contract) and 24 CFR 984.105 (Minimum Payment Size);

14. 24 CFR part 985 (Section 8 Management Assessment Program (SEMAP)); and

15. 24 CFR 990.145 (Dwelling Units with Approved Vacancies).

16. 24 CFR 1000.156 and 1000.158 (IHBG Moderate Design Requirements for Housing Development).

17. 24 CFR 1000.214 (Indian Housing Plan (IHP) Submission Deadline).

18. 24 CFR 1003.400(c) and Section I.C. of FY 2005 Indian Community Development Block Grants (ICDBG) Program Notice of Funding Availability (NOFA) (Grant Ceilings for ICDBG Imminent Threat Applications).

19. 24 CFR 1003.401 and Section I.C. of FY 2005 ICDBG NOFA (Application Requirements for ICDBG Imminent Threat Funds).

20. 24 CFR 1003.604 (ICDBG Citizen Participation Requirements). Both Federal Register notices described the regulatory requirement in detail and the period of suspension or alternative compliance date.

Granted By: Roy A. Bernardi, Deputy Secretary HUD's Deputy Secretary granted the initial waivers that were presented in notices and published in the Federal Register on October 3, 2005, and November 1, 2005 notice. The waivers presented by notice published in the Federal Register on March 13, 2006 were granted by Orlando J. Cabrera, Assistant Secretary, Public and Indian Housing.

Date Granted: Please refer to Table 1. Table 1 identifies Public Housing Agencies (PHAs) that have requested and were granted the regulatory waivers made available through the three Federal Register notices. The table identity's by number (as listed in the Federal Register notices) the regulatory waivers granted to each housing entity and identifies whether the housing entity was located in a Hurricane Katrina, Hurricane Rita or Hurricane Wilma disaster area.

Reason waived: The regulations waived in the October 3, 2005, and the November 1, 2005, and the March 13, 2006, Federal Register notices were waived to facilitate the delivery of safe and decent housing under HUD's Public Housing programs to families and individuals that were displaced from their housing as a result of the hurricanes.

Contacts: Reference the items numbers with the items identified in the aforementioned “Nature of Requirements” section for the following contacts:

• Requirements 1, 2 and 8 “ Nicole Faison, Director, Public Housing Programs, Office of Public Housing and Voucher Programs, Office of Public and Indian Housing, Department of Housing and Urban Development, 451 Seventh Street, SW., Room 4222, Washington, DC 20410-5000, telephone (202) 708-0744;

• Requirements 3, 4 and 15—Wanda F. Funk, Senior Advisor, Real Estate Assessment Center, Office of Public and Indian Housing, Department of Housing and Urban Development, 550 12th Street, SW., Suite 100, Washington, DC 20410-5000, telephone (202) 475-8736;

• Requirement 5—Merrie Nichols-Dixon, Director, Compliance and Coordination Division, Office of Field Operations, Office of Public and Indian Housing, Department of Housing and Urban Development, 451 Seventh Street, SW., Room 4112, Washington, DC 20410-5000, telephone (202) 708-4016.

• Requirements 6 and 7 “ Jeffery Riddel, Director, Capital Fund Division, Public Housing Investments, Office of Public and Indian Housing, Department of Housing and Urban Development, 451 Seventh Street, SW., Room 4146, Washington, DC 20410-5000, telephone (202) 401-8812;

• Requirements 9-14—Alfred C. Jurison, Director, Housing Voucher Management and Operations Division, Office of Public Housing and Voucher Programs, Office of Public and Indian Housing, Department of Housing and Urban Development, 451 Seventh Street, SW., Room 4210, Washington, DC 20410-5000, telephone (202) 708-0477;

• Requirements 16-20—Deborah M. Lalancette, Director, Office of Grants Management, Office of Native American Programs, Office of Public and Indian Housing, Department of Housing and Urban Development, 1670 Broadway Denver, CO 80202, telephone (303) 675-1600.

Table 1
Housing authority code | Housing Authority Name and Hurricane Disaster Area, (K), (R) and (W) indicates whether the Housing Authority was located in the hurricane Katrina, Rita or Wilma disaster areas. | Regulatory Waivers Granted, by Item No. | Date Notification Received
MS103 | The Housing Authority of the City of Jackson, Mississippi (K) | 1-4, 9-13 & 15 | 02/07/07
FL005 | Miami Dade Housing Authority (W) | 1-9, 13-15 | 02/26/07
FL028 | Housing Authority of Pompano Beach (K) | 4 | 02/09/07
TX005 | Housing Authority of the City of Houston | 14 | 01/05/07

• Regulations: 24 CFR part 5 and 24 CFR Chapter IX.

Project/Activity: The PHAs identified in Table 1, are all located within a presidentially declared disaster areas; and each PHA was previously granted regulatory waiver(s), as provided for in Federal Register notices Regulatory and Administrative Waivers Granted for Public and Indian Housing Programs to Assist with Recovery and Relief in Hurricane Katrina, Rita, and Wilma Disaster Areas, published October 3, 2005, November 1, 2005, and March 13, 2006, and in compliance Federal Register notice Extension of Regulatory and Administrative Waivers Granted for Public and Indian Housing Programs to Assist with Recovery and Relief in Hurricanes Katrina, Rita, and Wilma Disaster Areas, signed December 21, 2006, and published in the Federal Register on December 27, 2006 (71 FR 78022):

Nature of Requirements: The Federal Register notice provided for an extension of previously granted waivers of the following regulations, in 24 CFR part 5 and 24 CFR Chapter IX for those PHAs in the disaster areas that notified HUD through a special waiver request process designed to expedite both the submission of regulatory requests to HUD and HUD's response to the request.

a. 24 CFR 5.801(c) and 5.801(d) (Uniform Financial Reporting Standards (UFRS));

b. 24 CFR 902 (Public Housing Assessment System (PHAS));

c. 24 CFR 903.5 (Annual Plan Submission Deadline);

d. 24 CFR 905.10(i) (Capital Fund Formula; Limitation of Replacement Housing Funds to New Development);

e. 24 CFR 941.306 (Maximum Project);

f. 24 CFR 965.302 (Requirement for Energy Audits);

g. 24 CFR 982.54 (Administrative Plan);

h. 24 CFR 982.401(d) (Housing Quality Standards; Space Requirements);

i. 24 CFR 982.503(b) (Waiver of payment standard; Establishing Payment Standard; Amounts);

j. 24 CFR 984.303 (Contract of Participation; Family Self-Sufficiency (FSS) Program; Extension of Contract) and 24 CFR 984.105 (Minimum Payment Size);

k.24 CFR part 985 (Section 8 Management Assessment Program (SEMAP)); and

l. 24 CFR 990.145 (Dwelling Units with Approved Vacancies).

The Federal Register notice described the regulatory requirements in detail and the period of suspension or alternative compliance date.

Granted By: Roy A. Bernardi, Deputy Secretary, by notice published in the Federal Register on December 27, 2006.

Date Granted: Please refer to Table 1. Table 1 identifies Public Housing Agencies (PHAs) that have requested and were granted the extension to the regulatory waivers made available through the three Federal Register notice. The table identifies by letter (as listed in the Federal Register notice) the regulatory extension to waivers granted to each housing entity and identifies whether the housing entity was located in a Hurricane Katrina, Hurricane Rita or Hurricane Wilma disaster area.

Reason waived: The regulations waived in the December 27, 2006, Federal Register notice were waived to facilitate the delivery of safe and decent housing under HUD's Public Housing programs to families and individuals that were displaced from their housing as a result of the hurricanes.

Contacts: Reference the item numbers with the items identified in the aforementioned “Nature of Requirements” section for the following contacts:

• Requirements for item “f”—Nicole Faison, Director, Public Housing Programs, Office of Public Housing and Voucher Programs, Office of Public and Indian Housing, Department of Housing and Urban Development, 451 Seventh Street, SW., Room 4222, Washington, DC 20410-5000, telephone (202) 708-0744;

• Requirements for items “a”, “b”, and “l”—Wanda F. Funk, Senior Advisor, Real Estate Assessment Center, Office of Public and Indian Housing, Department of Housing and Urban Development, 550 12th Street, SW., Suite 100, Washington, DC 20410-5000, telephone (202) 475-8736;

• Requirement for items “c”—Merrie Nichols-Dixon, Director, Compliance and Coordination Division, Office of Field Operations, Office of Public and Indian Housing, Department of Housing and Urban Development, 451 Seventh Street, SW., Room 4112, Washington, DC 20410-5000, telephone (202) 708-4016.

• Requirements for items “d” and “e”—Jeffery Riddel, Director, Capital Fund Division, Public Housing Investments, Office of Public and Indian Housing, Department of Housing and Urban Development, 451 Seventh Street, SW, Room 4146, Washington, DC 20410-5000, telephone (202) 401-8812;

• Requirements for items “f”, “g”, “h”, “i”, “j”, and “k”—Alfred C. Jurison, Director, Housing Voucher Management and Operations Division, Office of Public Housing and Voucher Programs, Office of Public and Indian Housing, Department of Housing and Urban Development, 451 Seventh Street, SW, Room 4210, Washington, DC 20410-5000, telephone (202) 708-0477;

TABLE 1
HOUSING AUTHORITY CODE | Housing Authority Name and Hurricane Disaster Area, (K), (R) and (W) indicates whether the Housing Authority was located in the hurricane Katrina, Rita or Wilma disaster area. | Regulatory Waivers Granted, listed by item No | Date Request Acknowledged (N/A indicates Automatic waiver granted)
AL165 | Foley Housing Authority (K) | c, f, k & l | 01/08/07
FL003 | Tampa Housing Authority (W) | a & b | N/A
FL005 | Miami Dade Housing Authority (W) | a-h, j-l | 02/02/07
FL010 | Housing Authority of Fort Lauderdale (W) | k | 02/07/07
FL017 | Housing Authority of the City of Miami Beach (W) | b | N/A
FL021 | Pahokee Housing Authority (W) | b | N/A
FL025 | Housing Authority of the City of Titusville (W) | b | N/A
FL060 | Punta Gorda Housing Authority (W) | b | N/A
FL076 | Riviera Beach Housing Authority (W) | b | N/A
FL080 | Palm Beach County Housing Authority (W) | b | N/A
FL089 | Hillsborough County-BOCC (W) | a | N/A
FL116 | Dania Beach Housing Authority (W) | b & k | 01/05/07
FL141 | Collier County Housing Authority (W) | j & k | 01/29/07
FL144 | Monroe County Housing Authority (W) | c | N/A
LA001 | Housing Authority of the City of New Orleans (K) | a-l | 02/09/07
LA003 | Housing Authority of East Baton Rouge Parish (K) | b & k | 02/23/07
LA004 | Lake Charles Housing Authority (K) | a & b | N/A
LA005 | Lafayette Parish Housing Authority (K) | a-l | 01/29/07
LA011 | Westwego Housing Authority (K) | a, b & l | 01/29/07
LA012 | Housing Authority of Kenner (K) | a-c, g, h & l | 02/01/07
LA013 | Jefferson Parish Housing Authority (K) | a & b | N/A
LA024 | Bogalusa Housing Authority (K) | b | N/A
LA026 | Kaplan Housing Authority (K) | b | N/A
LA029 | Crowley Housing Authority (K) | a & b | N/A
LA036 | Morgan City Housing Authority (K) | a & b | N/A
LA043 | Donaldsonville Housing Authority (K) | c, f & l | 02/01/07
LA045 | Arcadia Housing Authority (K) | b | N/A
LA046 | Housing Authority of the Town of Vinton (K) | a & b | N/A
LA055 | Housing Authority of the City of Opelousas (K) | a-f & l | 02/01/07
LA063 | Sulphur Housing Authority (K) | k | 01/29/07
LA070 | Housing Authority of the Town of Patterson (K) | a & b | N/A
LA080 | Housing Authority of Lafourche Parish (K) | a | N/A
LA084 | Parks Housing Authority (K) | a & b | N/A
LA090 | Houma-Terrebonne Housing Authority (K) | d | 01/05/07
LA092 | St. James Parish Housing Authority (K) | b | N/A
LA094 | St. Charles Parish Housing Authority (K) | a & b | N/A
LA095 | Housing Authority of St. John the Baptist Parish (K) | a & b | N/A
LA103 | Slidell Housing Authority (K) | a-l | 01/29/07
LA122 | Housing Authority of the town of Colfax (K) | a & b | 03/21/07
LA172 | Calcasieu Parish Housing Department (K) | c, g, j & k | 01/29/07
LA238 | Covington Housing Authority (K) | a, b, k & l | 01/29/07
LA254 | Town of Pearl River (K) | a-l | 01/29/07
LA262 | East Carroll Parish Housing Authority (K) | a & b | N/A
MS001 | Hattiesburg Housing Authority (K) | c & f | 01/08/07
MS003 | The Housing Authority of the City of McComb City, MS (K) | a-f, h, i & l | 01/05/07
MS004 | The Housing Authority of the City of Meridian (K) | k | 03/22/07
MS005 | Biloxi Housing Authority (K) | a-e, g, h, j-l | 01/08/07
MS030 | MS Regional Housing Authority No. V (K) | a, b, k | 02/23/07
MS040 | Mississippi Regional Housing Authority No. VIII (K) | c-g, i, j & l | 03/21/07
MS057 | Mississippi Regional Housing Authority No. VII (K) | k | 01/05/07
MS058 | Mississippi Regional Housing Authority No. VI (K) | a & b | N/A
MS064 | Bay St. Louis Housing Authority (K) | c, d, f-h | 01/05/07
MS066 | Picayune Housing Authority (K) | b | 01/05/07
MS071 | Aberdeen Housing Authority (K) | a & b | N/A
MS082 | Winona Housing Authority (K) | a & b | N/A
MS084 | Housing Authority of the Town of Summit (K) | c-f, h, i & l | 01/05/07
MS086 | Vicksburg Housing Authority (K) | b | N/A
MS094 | Hazlehurst Housing Authority (K) | b | N/A
MS101 | Waveland Housing Authority (K) | a, b, d-f | 01/05/07
MS103 | Housing Authority of the City of Jackson (K) | a & b | N/A
MS105 | Natchez Housing Authority (K) | b | N/A
MS107 | Greenwood Housing Authority (K) | a-c, g, h & l | 03/05/07
MS109 | Long Beach HA (K) | a-c, f-l | 01/29/07
TX004 | Fort Worth Housing Authority (R) | g, h & k | 02/09/07
TX023 | Housing Authority of the City a of Beaumont (R) | -e, g, j-l | 02/02/07
TX034 | City of Port Arthur Housing Authority | a & b | N/A
TX037 | Orange Housing Authority (R) | a, b, h, k & l | 01/16/07
TX223 | Newton Housing Authority (R) | b & f | 02/09/07
TX225 | Woodville Housing Authority (R) | b & f | 01/29/07
TX383 | San Augustine Housing Authority (R) | b | 02/01/07
TX431 | Tarrant County Housing Assistance Office (R) | a, g, h & k | 02/09/07
TX512 | Deep East Texas Council of Governments (DETCOG) Regional Housing Authority (R) | a, g, h & k | 02/16/07
TX526 | Brazos Valley Council of Governments (R) | k | 03/02/07
TX540 | Brenham Section 8 Program, City of (BVDC) (R) | k | 03/02/07

[FR Doc. 07-3215 Filed 6-27-07; 2:06 pm]

BILLING CODE 4210-67-P